DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Screening, Brief Intervention, Brief Treatment and Referral to Treatment (SBIRT) Cross-Site Evaluation—New

SAMHSA's Center for Substance Abuse Treatment is conducting a cross-site external evaluation of the impact of programs of screening, brief intervention (BI), brief treatment (BT) and referral to treatment on patients presenting at various health care delivery units with a continuum of severity of substance use. CSAT's SBIRT program is a cooperative agreement grant program designed to help six States and one Tribal Council expand the continuum of care available for substance misuse and use disorders. The program includes screening, Brief Intervention, Brief Treatment and Referrals (BI, BT) for persons at risk for dependence on alcohol or drugs. The primary purpose of the evaluation is to study the extent to which the modified models of SBIRT being implemented by the grantees expand the continuum of care available for treatment of substance use disorders.

A survey will be used to collect data from patients at the participating grantee health care delivery units at baseline using a computer-assisted personal interview (CAPI) and at a six-month follow-up primarily via computer-assisted telephone interviewing (CATI). A second survey will be administered to practitioners who are delivering SBIRT services using CAPI. The patient survey is composed of questions on substance use behaviors and other outcome measures such as productivity, absenteeism, health status, arrests and accidents. The practitioner survey is designed to evaluate the implementation of proposed SBIRT models by measuring their penetration and practitioners' willingness to adopt. Furthermore, the survey will document moderating factors related to practitioner and health care delivery unit characteristics.

Estimated Annualized Burden Hours
Instrument/activity | Number of respondents | Number of responses per respondent | Average burden per response | Total burden hours per collection
Patient Survey: |  |  |  |
Baseline Data Collection | 3,600 | 1 | .42 | 1,512
6-Month Follow-up Data | 2,880 | 1 | .47 | 1,354
Practitioner Survey | 261 | 1 | .40 | 104
Total | 3,861 |  |  | 2,970

Written comments and recommendations concerning the proposed information collection should be sent by August 28, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 20, 2006.
Anna Marsh,
Director, Office of Program Services.

[FR Doc. E6-12028 Filed 7-26-06; 8:45 am]

BILLING CODE 4162-20-P